FEDERAL ACCOUNTING STANDARDS ADVISORY BOARD

Accounting for Fiduciary Activities

AGENCY: Federal Accounting Standards Advisory Board.

ACTION: Notice of New Exposure Draft Accounting for Fiduciary Activities.

Board Action: Pursuant to the Federal Advisory Committee Act (Pub. L. 92-463), as amended, and the FASAB Rules Of Procedure, as amended in October, 1999, notice is hereby given that the Federal Accounting Standards Advisory Board (FASAB) has published a new exposure draft, Accounting for Fiduciary Activities.

A summary of the proposed statements follows: On April 22, 2003, the Federal Accounting Standard Advisory Board (FASAB) released for public comment an exposure draft (ED), Accounting for Fiduciary Activities. The proposed standard provides guidance about how to account for and report fiduciary activity.

The exposure draft is available on the FASAB home page http://www.fasab.gov/exposure draft.htm. Copies can be obtained by contacting FASAB at (202) 512-7350, or fontenroser@fasab.gov.

Respondents are encouraged to comment on any part of the exposure draft. Written comments are requested by June 8, 2003, and should be sent to: Wendy M. Comes, Executive Director, Federal Accounting Standards Advisory Board, 441 G Street, NW., Suite 6814, Mail Stop 6K17V, Washington, DC 20548.

FOR FURTHER INFORMATION CONTACT: Wendy Comes, Executive Director, 441 G Street, NW., Washington, DC 20548, or call (202) 512-7350.

Authority: Federal Advisory Committee Act, Pub. L. 92-463.

Dated: April 28, 2003.
Wendy M. Comes,
Executive Director.

[FR Doc. 03-10931 Filed 5-2-03; 8:45 am]

BILLING CODE 1610-01-M